DEPARTMENT OF DEFENSE

Department of the Army

Availability of U.S. Provisional Patent Application 60/184,376 for Non-Exclusive, Exclusive, or Partially Exclusive Licensing

AGENCY: U.S. Army Soldier and Biological Chemical Command, Department of the Army, DoD.

ACTION: Notice of availability.

SUMMARY: In accordance with 37 CFR 404.6 and 35 U.S.C. 207, announcement is made of the availability of the following Government-Owned U.S. Provisional Patent Application 60/184,376 for non-exclusive, partially exclusive or exclusive licensing.

FOR FURTHER INFORMATION CONTACT: Mr. Bob Gross, Technology Transfer Office, U.S. Army SBCCOM, ATTN: AMSSB-RAS-C, 5183 Blackhawk Road (Bldg E3330/245), APG, MD 21010-5423, Phone: (410) 436-5387 or E-mail: rlgross@sbccom.apgea.army.mil

SUPPLEMENTARY INFORMATION:

Title: Automated Decision-Aid System for Hazardous Incidents (ADASHI).

Inventor: James A. Genovese.

The Automated Decision-Aid System for Hazardous Incidents (ADASHI) is a unique, computer-based integrated decision-aid support system for improving tactical response to a hazardous incident. ADASI effectively integrates the specific technical functions required to control a hazardous event involving chemical, biological or radiological (CBR) materials. ADASHI will automatically monitor most aspects of the CBR event, whether it be a “What if?” simulated event for training purposes or a real event. ADASHI can also be utilized as an “over the shoulder” decision-support system to aid incident commanders in making better, more timely decisions by rapidly processing the multi-variant input data and providing critical information to that commander in a high-stress environment.

Gregory D. Showalter,
Army Federal Register Liaison Officer.

[FR Doc. 00-10637 Filed 4-27-00; 8:45 am]

BILLING CODE 3710-08-M